DEPARTMENT OF AGRICULTURE

Food Safety and Inspection Service

[Docket No. FSIS-2007-0017]

Codex Alimentarius Commission: Meeting of the Codex Alimentarius Commission

AGENCY: Office of the Under Secretary for Food Safety, USDA.

ACTION: Notice of public meeting and request for comments.

SUMMARY: The Office of the Under Secretary for Food Safety, U.S. Department of Agriculture (USDA), is sponsoring a public meeting on June 5, 2007. The objective of the public meeting is to provide information and receive public comments on agenda items and draft United States positions that will be discussed at the Thirtieth Session of the Codex Alimentarius Commission (CAC), which will be held in Rome, Italy, July 2-7, 2007. The Under Secretary for Food Safety recognizes the importance of providing interested parties the opportunity to obtain background information on the 30th Session of CAC and to address items on the agenda.

DATES: The public meeting is scheduled for Tuesday, June 5, 2007, 1-4 p.m.

ADDRESSES: The public meeting will be held in Room 107-A, Jamie L. Whitten Building, USDA, 1400 Independence Avenue SW., Washington, DC 20250. Documents related to the 30th Session of CAC will be accessible via the World Wide Web at the following address: http://www.codexalimentarius.net/current.asp.

The U.S. Manager for Codex, F. Edward Scarbrough, Ph.D., U.S. Codex Office, Food Safety and Inspection Service, USDA, invites U.S. interested parties to submit their comments electronically to the following e-mail address uscodex@fsis.usda.gov.

For Further Information About the 30th Session of the CAC Contact: F. Edward Scarbrough, Ph.D., U.S. Manager for Codex, Telephone: (202) 720-2057, Fax: (202) 720-3157; e-mail: ed.scarbrough@fsis.usda.gov.

For Further Information about the Public Meeting Contact: Jasmine Matthews, Program Analyst, U.S. Codex Office, Telephone: (202) 205-7760, Fax: (202) 720-3157, e-mail: jasmine.matthews@fsis.usda.gov.

SUPPLEMENTARY INFORMATION:

Background

The Codex Alimentarius Commission (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The Codex Alimentarius Commission is responsible for making proposals to the Directors-General of FAO and WHO on all matters pertaining to the implementation of the Joint FAO/WHO Food Standards Programme, the purpose of which is:

(a) Protecting the health of the consumers and ensuring fair practices in the food trade;

(b) promoting coordination of all food standards work undertaken by international governmental and non-governmental organizations;

(c) determining priorities and initiating and guiding the preparation of draft standards through and with the aid of appropriate organizations;

(d) finalizing standards elaborated under (c) above and publishing them in a Codex Alimentarius either as regional or world wide standards, and \

(e) Amending published standards, after appropriate survey in the light of developments.

Issues To Be Discussed at the Public Meeting

The following items on the Agenda for the 30th Session of the CAC will be discussed during the public meeting:

• Report by the Chairperson on the 59th Session of the Executive Committee

• Reports of FAO/WHO Regional Coordinating Committees

• Amendments to the Procedural Manual

• Amendments to the Rules of Procedure

• Other amendments to the Procedural Manual

• Draft Standards and Related Texts at Step 8 of the Procedure (including those submitted at Step 5 with a recommendation to omit Steps 6 and 7 and those submitted at Step 5 of the Accelerated Procedure)

• Proposed Draft Standards and Related Texts at Step 5

• Revocation of existing Codex Standards and Related Texts

• Proposals for the Elaboration of new Standards and Related Texts and for the Discontinuation of Work

• Financial and Budgetary Matters—Proposed Budget 2008/2009

• Proposed Schedule of Codex Meetings 2007-2009

• Strategic Planning of the Codex Alimentarius Commission

• Implementation of the Joint FAO/WHO Evaluation of the Codex Alimentarius and other FAO and WHO Work on Food Standards

• General Implementation Status

• Review of Codex Committee Structure and Mandates of Codex Committees and Task Forces

• Matters arising from the Reports of Codex Committees and Task Forces

• Relations between the Codex Alimentarius Commission and other International Organizations

• FAO/WHO Project and Trust Fund for Enhanced Participation in Codex

• Other Matters arising from FAO and WHO

• Appointment of Regional Coordinators

• Election of Chairperson, Vice-Chairpersons and other Members of the Executive Committee

• Designation of Countries responsible for Appointing the Chairpersons of Codex Committees and Task Forces

Each issue listed will be fully described in documents distributed, or to be distributed, by the Secretariat prior to the Meeting. Members of the public may access or request copies of these documents (see For Further Information About The 30th Session of the CAC Contact).

Public Meeting

At the June 5, 2007 public meeting, draft U.S. positions on the agenda items will be described and discussed, and attendees will have the opportunity to pose questions and offer comments. Written comments may be offered at the meeting or sent to the U.S. Manager for Codex, F. Edward Scarbrough (see ADDRESSES). Written comments should state that they relate to activities of the 30th Session of the CAC.

Additional Public Notification

Public awareness of all segments of rulemaking and policy development is important. Consequently, in an effort to ensure that minorities, women, and persons with disabilities are aware of this notice, FSIS will announce it on-line through the FSIS Web page located at http://www.fsis.usda.gov/regulations/2007_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices.

Customers can add or delete subscriptions themselves and have the option to password protect their account.

Done at Washington, DC on May 24, 2007.
F. Edward Scarbrough,
U.S. Manager for Codex.

[FR Doc. E7-10326 Filed 5-29-07; 8:45 am]

BILLING CODE 3410-DM-P